POSTAL SERVICE

39 CFR Part 111

Domestic Mail Manual; Incorporation by Reference

AGENCY: Postal Service™.

ACTION: Final rule.

SUMMARY: The Postal Service announces the issuance of the Mailing Standards of the United States Postal Service, Domestic Mail Manual (DMM®) dated January 22, 2017, and its incorporation by reference in the Code of Federal Regulations.

DATES: This final rule is effective on June 23, 2017. The incorporation by reference of the DMM dated January 22, 2017, is approved by the Director of the Federal Register as of June 23, 2017.

FOR FURTHER INFORMATION CONTACT: Lizbeth Dobbins (202) 268-3789.

SUPPLEMENTARY INFORMATION: The most recent issue of the Domestic Mail Manual (DMM) is dated January 22, 2017. This issue of the DMM contains all Postal Service domestic mailing standards, and continues to: (1) Increase the user's ability to find information; (2) increase confidence that users have found all the information they need; and (3) reduce the need to consult multiple chapters of the Manual to locate necessary information. The issue dated January 22, 2017, sets forth specific changes, including new standards throughout the DMM to support the standards and mail preparation changes implemented since the version issued on July 11, 2016.

Changes to mailing standards will continue to be published through Federal Register notices and the Postal Bulletin, and will appear in the next online version available via the Postal Explorer® Web site at: http://pe.usps.com.

List of Subjects in 39 CFR Part 111

Administrative practice and procedure, Incorporation by reference.

In view of the considerations discussed above, the Postal Service hereby amends 39 CFR part 111 as follows:

PART 111—GENERAL INFORMATION ON POSTAL SERVICE

1. The authority citation for 39 CFR part 111 continues to read as follows:

Authority: 5 U.S.C. 552(a); 13 U.S.C. 301-307; 18 U.S.C. 1692-1737; 39 U.S.C. 101, 401, 403, 404, 414, 416, 3001-3011, 3201-3219, 3403-3406, 3621, 3622, 3626, 3632, 3633, and 5001.

2. In § 111.3 amend paragraph (f) by revising the last two entries in the table for “DMM 300” and adding an entry at the end of the table to read as follows:

§ 111.3 Amendment to the Mailing Standards of the United States Postal Service, Domestic Mail Manual.

* * * * *

(f) * * *

Transmittal letter for issue | Dated | Federal Register publication
* * * * * * *
DMM 300 | January 25, 2015 | 80 FR 13492.
DMM 300 | July 11, 2016 | 81 FR 66822.
DMM | January 22, 2017 | [INSERT Federal Register CITATION FOR THIS RULE].

§ 111.4 [Amended]

3. Amend § 111.4 by removing “September 29, 2016” and adding “June 23, 2017”.

Stanley F. Mires,
Attorney, Federal Compliance.

[FR Doc. 2017-13085 Filed 6-22-17; 8:45 am]

BILLING CODE 7710-12-P